OFFICE OF GOVERNMENT ETHICS

Proposed Collection; Comment Request for an Unmodified OGE Form 450 Executive Branch Confidential Financial Disclosure Report

AGENCY: Office of Government Ethics (OGE).

ACTION: Notice of request for agency and public comments.

SUMMARY: After this first round notice and public comment period, OGE plans to submit an unmodified OGE Form 450 Executive Branch Confidential Financial Disclosure Report to the Office of Management and Budget (OMB) for review and approval of a three-year extension under the Paperwork Reduction Act of 1995 (44 U.S.C. chapter 35).

DATES: Written comments by the public and the agencies on this proposed extension are invited and must be received by March 26, 2010.

ADDRESSES: You may submit comments to OGE on this paperwork notice by any of the following methods:

E-mail: usoge@oge.gov (Include reference to “OGE Form 450 paperwork comment” in the subject line of the message).

FAX: 202-482-9237.

Mail, Hand Delivery/Courier: Office of Government Ethics, Suite 500, 1201 New York Avenue, NW., Washington, DC 20005-3917, Attention: Paul D. Ledvina, Records Officer.

FOR FURTHER INFORMATION CONTACT: Mr. Ledvina at the Office of Government Ethics; telephone: 202-482-9247; TTY: 800-877-8339; FAX: 202-482-9237; E-mail: paul.ledvina@oge.gov. An electronic copy of the OGE Form 450 is available in the Forms Library section of OGE's Web site at http://www.usoge.gov. A paper copy may also be obtained, without charge, by contacting Mr. Ledvina.

SUPPLEMENTARY INFORMATION: Title: Executive Branch Confidential Financial Disclosure Report.

Agency Form Number: OGE Form 450.

OMB Control Number: 3209-0006.

Type of Information Collection: Extension without change of a currently approved collection.

Type of Review Request: Regular.

Respondents: Private citizens who are potential (incoming) regular Federal employees whose positions are designated for confidential disclosure filing, and special Government employees whose agencies require that they file new entrant disclosure reports prior to assuming Government responsibilities.

Estimated Annual Number of Respondents: 20,174.

Estimated Time per Response: 1 hour.

Estimated Total Annual Burden: 20,174 hours.

Abstract: The OGE Form 450 collects information from covered department and agency employees as required under OGE's executive branchwide regulatory provisions in subpart I of 5 CFR part 2634. The basis for the OGE reporting regulation is section 201(d) of Executive Order 12674 of April 12, 1989 (as modified by Executive Order 12731 of October 17, 1990, 3 CFR, 1990 Comp., pp. 306-311, at p. 308) and section 107(a) of the Ethics Act, 5 U.S.C. app., section 107(a).

Request for Comments: Public comment is invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: January 19, 2010.
Robert I. Cusick,
Director, Office of Government Ethics.

[FR Doc. 2010-1316 Filed 1-22-10; 8:45 am]

BILLING CODE 6345-03-P